DEPARTMENT OF THE INTERIOR

Fish and Wildlife Service

[FWS-R8-ES-2020-N026; FXES11140800000-201-FF08ECAR00]

Receipt of Application for Renewal of Incidental Take Permit; Low-Effect Habitat Conservation Plan for the Endangered Arroyo Toad, San Diego County, California

AGENCY: Fish and Wildlife Service, Interior.

ACTION: Notice of receipt of permit renewal application; request for comments.

SUMMARY: We, the U.S. Fish and Wildlife Service (Service), have received an application from Pauma Estates, Inc., for renewal of an incidental take permit pursuant to the Endangered Species Act. The applicant has requested a renewal that will extend permit authorization by 5 years from the date the permit is reissued. If the permit is renewed, no additional take above the original authorized limit of 10.74 acres of habitat will be authorized. The permit would authorize take of the federally endangered arroyo toad, incidental to otherwise lawful activities associated with the low-effect habitat conservation plan (HCP) for Pauma Estates in San Diego County, California. We invite the public and local, State, Tribal, and Federal agencies to comment on the application, which includes the applicant's proposed HCP and the Service's preliminary determination that this HCP qualifies as “low-effect,” categorically excluded, under the National Environmental Policy Act. To make this determination, we used our environmental action statement and low-effect screening form, both of which are also available for public review.

DATES: We must receive your written comments on or before May 28, 2020.

ADDRESSES: Obtaining Documents: You may obtain copies of the documents by the following methods:

• Internet: https://www.fws.gov/carlsbad/HCPs/HCP_Docs.html.

• Telephone: 760-431-9440.

• U.S. Mail: Field Supervisor, Carlsbad Fish and Wildlife Office, U.S. Fish and Wildlife Service, 2177 Salk Avenue, Suite 250, Carlsbad, CA 92008.

Submitting Comments: You may submit comments by one of the following methods. Please include “Pauma Estates, Inc.” at the beginning of your comments.

• U.S. Mail: Carlsbad Fish and Wildlife Office (address above).

• Email: fw8cfwocomments@fws.gov.

FOR FURTHER INFORMATION CONTACT: Mr. David A. Zoutendyk, Acting Assistant Field Supervisor, Carlsbad Fish and Wildlife Office, 760-431-9440. If you use a telecommunications device for the deaf (TDD), please call the Federal Relay Service (FRS) at 800-877-8339.

SUPPLEMENTARY INFORMATION: We, the U.S. Fish and Wildlife Service (Service), have received an application from Pauma Estates, Inc. (applicant), to renew incidental take permit TE63657B-0 under the Endangered Species Act of 1973, as amended (ESA; 16 U.S.C. 1531 et seq.). The applicant has requested a renewal that would extend the permit authorization by 5 years from the date the permit is reissued. The existing permit is valid from April 20, 2015, to April 20, 2020. The applicant has agreed to follow all of the existing habitat conservation plan (HCP) conditions. If the permit is renewed, no additional take above the original authorized limit of 10.74 acres of habitat will be authorized. The permit would authorize take of the federally endangered arroyo toad (Anaxyrus californicus), incidental to otherwise lawful activities associated with the low-effect HCP for Pauma Estates.

We invite the public and local, State, Tribal, and Federal agencies to comment on the application, which includes the applicant's proposed HCP and the Service's preliminary determination that this HCP qualifies as “low-effect,” categorically excluded, under the National Environmental Policy Act. To make this determination, we used our environmental action statement and low-effect screening form, both of which are also available for public review.

Background

The arroyo toad was listed by the Service as endangered on December 16, 1994 (59 FR 64859). Section 9 of the ESA and its implementing Federal regulations prohibit the “take” of animal species listed as endangered or threatened. “Take” is defined under the ESA as to “harass, harm, pursue, hunt, shoot, wound, kill, trap, capture, or collect [listed animal species], or to attempt to engage in such conduct” (16 U.S.C. 1538). “Harm” includes significant habitat modification or degradation that actually kills or injures listed wildlife by significantly impairing essential behavioral patterns, such as breeding, feeding, or sheltering (50 CFR 17.3). However, under section 10(a) of the ESA, the Service may issue permits to authorize incidental take of listed species. “Incidental taking” is defined by the ESA implementing regulations as taking that is incidental to, and not the purpose of, carrying out an otherwise lawful activity (50 CFR 17.3). Regulations governing incidental take permits for endangered and threatened species, respectively, are found in the Code of Federal Regulations at 50 CFR 17.22 and 50 CFR 17.32. Issuance of an incidental take permit also must not jeopardize the existence of federally listed fish, wildlife, or plan species. All species included in the incidental take permit would receive assurances under our “No Surprises” regulations (50 CFR 17.22(b)(5) and 17.32(b)(5)).

The applicant has applied for the renewal of their permit for incidental take for the endangered arroyo toad. The potential taking would occur by activities associated with the construction of a residential development (as defined in the HCP) in an area that supports suitable habitat for the covered species. The project is located on an approximately 26-acre property in the Pauma Valley area of unincorporated San Diego County, California. An incidental take permit was first issued for the HCP on April 20, 2015, and will expire on April 20, 2020.

Public Availability of Comments

Before including your address, phone number, email address, or other personal identifying information in your comment, you should be aware that your entire comment—including your personal identifying information—may be made publicly available at any time. While you may ask us in your comment to withhold your personal identifying information from public review, we cannot guarantee that we will be able to do so.

Authority

We provide this notice under section 10 of the ESA (16 U.S.C. 1531 et seq.).

Scott Sobiech,
Field Supervisor, Carlsbad Fish and Wildlife Office, Carlsbad, California.

[FR Doc. 2020-07688 Filed 4-10-20; 8:45 am]

BILLING CODE 4333-15-P